DEPARTMENT OF COMMERCE

Foreign-Trade Zones Board

[B-25-2017]

Foreign-Trade Zone (FTZ) 39—Dallas-Fort Worth, Texas, Notification of Proposed Production Activity, Valeo North America, Inc., d/b/a Valeo Compressor North America, (Motor Vehicle Air-Conditioner Compressors), Dallas, Texas

Valeo North America, Inc. d/b/a Valeo Compressor North America (Valeo), submitted a notification of proposed production activity to the FTZ Board for its facility in Dallas, Texas, within FTZ 39-Site 1. The notification conforming to the requirements of the regulations of the FTZ Board (15 CFR 400.22) was received on April 12, 2017.

Valeo already has authority to produce air-conditioner compressor assemblies for motor vehicles. The current request would add certain foreign-status components to the scope of authority. Pursuant to 15 CFR 400.14(b), additional FTZ authority would be limited to the specific foreign status components described in the submitted notification (as described below) and subsequently authorized by the FTZ Board.

Production under FTZ procedures could exempt Valeo from customs duty payments on the foreign status components used in export production. On its domestic sales, Valeo would be able to choose the duty rates during customs entry procedures that apply to air-conditioner compressor assemblies and electromagnetic compressor/clutch assemblies in the company's existing scope of authority (duty rate ranges from free to 3.1%). Customs duties also could possibly be deferred or reduced on foreign-status production equipment.

The components sourced from abroad include: Stainless steel bolts; stainless steel screws (less than and more than 6mm in diameters); and, electromagnetic shims and rings (duty rate ranges from free to 8.5%).

Public comment is invited from interested parties. Submissions shall be addressed to the Board's Executive Secretary at the address below. The closing period for their receipt is July 17, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: June 2, 2017.
Andrew McGilvray,
Executive Secretary.

[FR Doc. 2017-11836 Filed 6-6-17; 8:45 am]

BILLING CODE 3510-DS-P